DEPARTMENT OF HEALTH AND HUMAN SERVICES

Centers for Disease Control and Prevention

[60Day-21-21GB; Docket No. CDC-2021-0062]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Performance Monitoring of CDC's Core State Injury Prevention Program. The proposed study is designed to collect performance monitoring data, via a web-based tool, from recipients funded under the Core State Injury Prevention Program cooperative agreement (Core SIPP).

DATES: CDC must receive written comments on or before August 31, 2021.

ADDRESSES: You may submit comments, identified by Docket No. CDC-2021-0062 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov. Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7118; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Performance Monitoring of CDC's Core State Injury Prevention Program—New—National Center for Injury Prevention and Control (NCIPC), Centers for Disease Control and Prevention (CDC).

Background and Brief Description

The Centers for Disease Control and Prevention (CDC) seeks Office of Management and Budget (OMB) approval to electronically collect performance monitoring data, via a web-based Partners' Portal, from recipients funded under the Core State Injury Prevention Program cooperative agreement, hereafter known as Core SIPP. OMB approval is requested for three years. The electronic collection of information for program and performance monitoring aligns with three of CDC's Data Modernization Initiative Key Objectives to:

• Develop and implement cloud-based approaches for automating data collection and supporting multi-directional data flows among STLT partners and CDC.

• Reduce burden for data providers and public health agencies.

• Ensure systems and services are scalable, interoperable, and adaptable to meet evolving needs.

Recipients will report progress and activity information to CDC on an annual schedule using a web-based Partners' Portal.

Information to be collected will provide crucial data for program performance monitoring and provide CDC with the capacity to respond in a timely manner to requests for information about the program from the Department of Health and Human Services (DHHS), the White House, Congress, and other sources. Information to be collected will also strengthen CDC's ability to monitor awardee progress, provide data-driven technical assistance, and disseminate the most current surveillance data on unintentional and intentional injuries.

Monitoring the impact of population-based strategies and identifying new insights and innovative solutions to health problems are two of the noted public health activities that all public health systems should undertake. For NCIPC, these objectives cannot be satisfied without the systematic collection of data and information from state health departments. The information collection will enable the accurate, reliable, uniform and timely submission to NCIPC of each awardee's progress report and injury indicators, including strategies and performance measures. The information collection plan proposed here will also generate a variety of routine and customizable reports. State-specific reports will allow each awardee to summarize activities and progress towards meeting strategies and performance measure targets related to the reduction and prevention of unintentional and intentional injuries. NCIPC will also have the capacity to generate reports that describe activities and health outcomes across multiple recipients, which will enable better reporting of trends and provision of technical assistance through linking partners across state health departments and collaborating divisions within CDC.

The information collection and reporting requirements have been carefully designed to align with, and support the specific goals and outcomes outlined in the Core SIPP cooperative agreement. The overarching goal of Core SIPP is to strengthen the awardee's injury prevention programs and policies and demonstrate impact in the reduction of injury-related morbidity and mortality. Although the data are limited to the 23 recipients of the Core SIPP NOFO, the results can be generalizable and inform injury prevention work. Moreover, it is asserted that the results of the data collection are vital to ensuring the Core SIPPs efficient management. Results will not only allow NCIPC staff to provide data-driven technical assistance to recipients, but also to assess patterns across other NCIPC injury prevention programs such as, Prescription Drug Overdose Prevention for States and the Injury Control Research Centers. In addition, the data collection will inform the continuous quality improvement process and allow NCIPC staff to make mid-course corrections and describe the impact on health outcomes.

The information collection procedures will also allow NCIPC to respond to inquiries from the HHS, the White House, Congress and other stakeholders about program activities and their impact; as well as, work towards CDCs overarching mission to protect America from health, safety and security threats, both foreign and in the U.S. NCIPC will use the information collected in the Partners' Portal to perform program activities to accomplish the following objectives:

• Monitor each awardee's progress and identify facilitators and barriers to program implementation and achievement of outcomes. Monitoring allows NCIPC to determine whether an awardee is meeting performance goals, to inform awardee continuous quality improvements, and to inform the type of intensity of CDC-provided technical assistance to support attainment of their performance measures.

• Identify trends in injury surveillance data to inform state foci for prevention and intervention strategies as well as the production of relevant reports, journal articles, and resources for state health departments.

• Identify, translate, and disseminate information about successful injury prevention and control strategies implemented by recipients through the development of journal articles, tools, templates, and other injury prevention resources/products.

Program recipients will use the information collected to manage and coordinate their activities and to improve their efforts to prevent and control injuries. The Partners' Portal allows recipients to fulfill their annual reporting obligations efficiently by employing user-friendly, easily accessible web-based instruments to collect necessary information for both progress reports and continuation applications including work plans. This approach enables recipients to save pertinent information from one reporting period to the next and reduces the administrative burden on the annual continuation application and the performance monitoring process. Awardee program staff are able to review the completeness of data needed to generate required reports, enter basic summary data for reports annually, and finalize and save required reports for upload into other reporting systems as required.

Estimated Annualized Burden Hours
Type of respondents | Form name | Number of respondents | Number of responses per respondent | Average burden per response (in hours) | Total burden (in hours)
Core SIPP Program Recipients | Annual Progress Report | 23 | 1 | 11 | 253
Total |  |  |  |  | 253

Jeffrey M. Zirger,
Lead, Information Collection Review Office, Office of Scientific Integrity, Office of Science, Centers for Disease Control and Prevention.

[FR Doc. 2021-14224 Filed 7-1-21; 8:45 am]

BILLING CODE 4163-18-P